BUREAU OF CONSUMER FINANCIAL PROTECTION

[Docket No: CFPB-2021-0009]

Agency Information Collection Activities: Notice of Approval of Information Collection Requirements

AGENCY: Bureau of Consumer Financial Protection.

ACTION: Notice.

SUMMARY: In accordance with the Paperwork Reduction Act of 1995 (PRA), the Bureau of Consumer Financial Protection (Bureau) is announcing Office of Management and Budget (OMB) approval of new information collection requirements contained in an interim final rule published in the Federal Register on April 22, 2021, “Debt Collection Practices in Connection with the Global COVID-19 Pandemic (Regulation F).” See the SUPPLEMENTARY INFORMATION section below for additional information about this OMB approval.

FOR FURTHER INFORMATION CONTACT: Documentation prepared in support of this information collection request is available at www.regulations.gov. Requests for additional information should be directed to Suzan Muslu, Data Governance Program Manager, at (202) 435-9267, or email: CFPB_PRA@cfpb.gov. If you require this document in an alternative electronic format, please contact CFPB_Accessibility@cfpb.gov. Please do not submit comments to this mailbox.

SUPPLEMENTARY INFORMATION: Under the PRA (44 U.S.C. 3501 et seq.) the Bureau may not conduct or sponsor, and, notwithstanding any other provision of law, a respondent is not required to respond to, an information collection unless it displays a currently valid OMB control number. On April 22, 2021, the Bureau published an interim final rule in the Federal Register titled “Debt Collection Practices in Connection with the Global COVID-19 Pandemic (Regulation F)” to amend Regulation F, which implements the Fair Debt Collection Practices Act (FDCPA). The interim final rule addresses certain debt collector conduct associated with an eviction moratorium issued by the Centers for Disease Control and Prevention (CDC) in response to the global COVID-19 pandemic. The amendments prohibit debt collectors from taking certain covered eviction actions unless the debt collectors provide written notice to certain consumers of their protections under the CDC temporary eviction moratorium and prohibit misrepresentations about consumers' ineligibility for protection under such moratorium. This moratorium is in place now and currently set to expire at the end of June.

Pursuant to 5 CFR 1320.13, the Bureau submitted a request for emergency approval of these information collection on April 22, 2021, and OMB approved this ICR on April 30, 2021 and assigned it OMB Control Number 3170-0074. Therefore, in accordance with the PRA and 5 CFR 1320.11(k), the Bureau hereby announces OMB approval of the information collection requirements as contained in the subject interim final rule which is effective May 3, 2021.

Dated: April 30, 2021.
Suzan Muslu,
Data Governance Program Manager, Bureau of Consumer Financial Protection.

[FR Doc. 2021-09533 Filed 5-5-21; 8:45 am]

BILLING CODE 4810-AM-P